DEPARTMENT OF THE INTERIOR

Bureau of Land Management

[CO-921-04-1320-EL; COC 67737]

Notice of Invitation for Coal Exploration License Application, Blue Mountain Energy, Inc. COC 67737; Colorado

AGENCY: Bureau of Land Management, Interior.

ACTION: Notice.

SUMMARY: Pursuant to the Mineral Leasing Act of February 25, 1920, as amended, and Title 43, Code of Federal Regulations, Subpart 3410, members of the public are hereby invited to participate with Blue Mountain Energy, Inc. in a program for the exploration of unleased coal deposits owned by the United States of America beneath approximately 4,000.00 acres in Rio Blanco County, Colorado.

DATES: Written Notice of Intent to Participate should be addressed to the attention of the following persons and must be received by them by August 13, 2004.

ADDRESSES: Karen Purvis, CO-921, Solid Minerals Staff, Division of Energy, Lands and Minerals, Colorado State Office, Bureau of Land Management, 2850 Youngfield Street, Lakewood, Colorado 80215; and Jeff Dubbert, Blue Mountain Energy, Inc., 3607 County Road #65, Rangely, Colorado 81648.

FOR FURTHER INFORMATION CONTACT: Karen Purvis at (303) 239-3795.

SUPPLEMENTARY INFORMATION: The application for coal exploration license is available for public inspection during normal business hours under serial number COC 67737 at the Bureau of Land Management, Colorado State Office, 2850 Youngfield Street, Lakewood, Colorado 80215, and at the White River Field Office, 73544 Highway 64, Meeker, Colorado 81641. Any party electing to participate in this program must share all costs on a pro rata basis with Blue Mountain Energy, Inc. and with any other party or parties who elect to participate.

Dated: June 10, 2004.
Karen Purvis,
Solid Minerals Staff, Division of Energy, Lands and Minerals.

[FR Doc. 04-15890 Filed 7-13-04; 8:45 am]

BILLING CODE 4310-JB-P